DEPARTMENT OF THE INTERIOR

Bureau of Land Management

[ID-110-5420-EU-D037, DK-G06-0001; IDI-35135]

Disclaimer of Interest in Lands, Idaho

AGENCY: Bureau of Land Management, Interior.

ACTION: Notice.

SUMMARY: An application has been filed by Peter W. Ware, Jr., Attorney at Law on behalf of Roy and Donna Johnson and Willowbrook Development Partners II, LLC, for a recordable disclaimer of interest from the United States.

DATES: Comments or protests to this action should be received by June 6, 2006.

ADDRESSES: Comments or protests must be filed with: State Director (ID933), Bureau of Land Management, 1387 S. Vinnell Way, Boise, ID 83709.

FOR FURTHER INFORMATION CONTACT: Contact Cathie Foster, BLM, Idaho State Office, 1387 S. Vinnell Way, Boise, Idaho 83709, (208) 373-3863 or Mike Truden, BLM, Four Rivers Field Office, 3948 Development Avenue, Boise, Idaho 83705, (208) 384-3450.

SUPPLEMENTARY INFORMATION: Pursuant to Section 315 of the Federal Land Policy and Management Act of 1976 (43 U.S.C. 1745), Peter W. Ware, Jr., has filed an application requesting the United States issue a recordable disclaimer of interest. The disclaimer of interest has been requested to disclaim and release all interest that the United States might have to a stock driveway, as reserved in Patent No. 11-2006-0007 dated January 4, 2006, to wit:

“A right-of-way to the United States over and across a 100 foot strip measured parallel and adjacent to the east boundary of the SE¼NE¼ of said Section 25, T. 5 N., R. 2 W., and extending south 100 feet into the NE¼SE¼ of said Section 25; thence east parallel and adjacent to the north boundary of the NE¼SE¼ of said Section 25 and Lot 3 of said Section 30, T. 5 N., R. 1 W., to a point 100 feet west of the east boundary of said Lot 3; thence south parallel and adjacent to the east boundary of said Lot 3 and extending south 100 feet into Lot 4 of said section 30 and then east 100 feet parallel and adjacent to the north boundary of said Lot 4, for stock driveway purposes.”

Based on a field exam and report prepared by the BLM's Four Rivers Field Office, the reservation is no longer needed to provide access to the public land because re-conveyance of adjacent private land to the United States has provided access to a previously land-locked parcel of public land. Also, development in the area has resulted in public roads providing a more efficient method of moving livestock between properties. Therefore, the application by Peter W. Ware, Jr. for a disclaimer for the stock driveway reservation in Patent No. 11-2006-0007 from the United States will be approved if no valid objection is received. This action will clear a cloud on the title of Roy and Donna Johnson's and Willowbrook Development Partners II, LLC's land.

Comments, including names and street addresses of respondents will be available for public review at the Idaho State Office, Bureau of Land Management, 1387 S. Vinnell Way, Boise, Idaho during regular business hours 9 a.m. to 4 p.m. Monday through Friday, except holidays. Individual respondents may request confidentiality. If you wish to withhold your name or address from public review or from disclosure under the Freedom of Information Act, you must state this prominently at the beginning of your comments. Such requests will be honored to the extent allowed by law. All submissions from organizations or businesses and from individuals identifying themselves as representatives or officials of organizations or businesses will be made available for public inspection in their entirety.

Jimmie Buxton,
Chief, Branch of Lands, Minerals and Water Rights, Resource Services Division.

[FR Doc. E6-3248 Filed 3-7-06; 8:45 am]

BILLING CODE 4310-GG-P